INTERNATIONAL TRADE COMMISSION

[Investigation Nos. 701-TA-365-366 and 731-TA-734-735 (Third Review)]

Certain Pasta From Italy and Turkey; Revised Schedule for the Subject Reviews

AGENCY: United States International Trade Commission.

ACTION: Notice.

DATES: Effective Date: Date of Commission approval of action jacket.

FOR FURTHER INFORMATION CONTACT: Keysha Martinez (202-205-2136), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

SUPPLEMENTARY INFORMATION: On February 6, 2013, the Commission established a schedule for the conduct of the five-year reviews of certain pasta from Italy and Turkey (78 FR 9937, February 12, 2013). The Commission is revising its schedule as follows: the hearing will be on July 11, 2013, and the posthearing briefs and non-party written statements are due on July 22, 2013. For further information concerning these reviews see the Commission's notice cited above.

For further information concerning the conduct of these reviews and rules of general application, consult the Commission's Rules of Practice and Procedure, part 201, subparts A, B, and E (19 CFR part 201), and part 207, subparts A and F (19 CFR part 207), as most recently amended at 76 FR 61949 (Oct. 6, 2011).

Authority: These reviews are being conducted under authority of title VII of the Tariff Act of 1930; this notice is published pursuant to section 207.62 of the Commission's rules.

By order of the Commission.
Issued: March 4, 2013.
Lisa R. Barton,
Acting Secretary to the Commission.

[FR Doc. 2013-05346 Filed 3-7-13; 8:45 am]

BILLING CODE 7020-02-P